FEDERAL COMMUNICATIONS COMMISSION

47 CFR Part 73

[DA 05-1988]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective August 3, 2005.

FOR FURTHER INFORMATION CONTACT: Rolanda F. Smith, Media Bureau, (202) 418-2180.

SUPPLEMENTARY INFORMATION: This is a summary of the Commission's Report and Order, adopted July 13, 2005, and released July 15, 2005. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

Part 73 of Title 47 of the Code of Federal Regulations is amended as follows:

PART 73—RADIO BROADCASTING SERVICES

1. The authority citation for Part 73 continues to read as follows:

Authority: 47 U.S.C. 154, 303, 334, and 336.

§ 73.202 [Amended]

2. Section 73.202(b), the Table of FM Allotments under Alabama, is amended by removing Channel 231A and adding Channel 230C3 at Union Springs.

3. Section 73.202(b), the Table of FM Allotments under Alaska, is amended by removing Channel 231C2 and adding Channel 231C1 at Sterling.

4. Section 73.202(b), the Table of FM Allotments under Arizona, is amended by removing Channel 257A and adding Channel 257C3 at Payson.

5. Section 73.202(b), the Table of FM Allotments under Colorado, is amended by removing Channel 222C1 and adding Channel 222A at Holyoke; and by removing Channel 285A and adding Channel 285C3 at Rye.

6. Section 73.202(b), the Table of FM Allotments under Georgia, is amended by removing Channel 268C and adding Channel 268C0 at Marietta.

7. Section 73.202(b), the Table of FM Allotments under Hawaii, is amended by removing Channel 275C2 and adding Channel 275C at Honokaa; and by removing Channel 230C and adding Channel 230C0 at Kailua Kona.

8. Section 73.202(b), the Table of FM Allotments under Idaho, is amended by removing Channel 243A and adding Channel 243C2 at Ashton; by removing Channel 253A and adding Channel 253C2 at Orofino; by removing Channel 261A and adding Channel 261C2 at Soda Springs; by removing Channel 262A and adding Channel 263C2 at Troy.

9. Section 73.202(b), the Table of FM Allotments under Iowa, is amended by removing Channel 259A and adding Channel 259C3 at Manson.

10. Section 73.202(b), the Table of FM Allotments under Kansas, is amended by removing Channel 222A and adding Channel 225C1 at Cimarron.

11. Section 73.202(b), the Table of FM Allotments under Louisiana, is amended by removing Channel 253C1 and adding Channel 253C0 at New Orleans.

12. Section 73.202(b), the Table of FM Allotments under Maine, is amended by removing Channel 229B and adding Channel 229A at Milbridge; and by removing Channel 237A and adding Channel 237C2 at Winslow.

13. Section 73.202(b), the Table of FM Allotments under Michigan, is amended by removing Channel 262C3 and adding Channel 262C1 at Gwinn.

14. Section 73.202(b), the Table of FM Allotments under Mississippi, is amended by removing Channel 223C and adding Channel 223C0 at Forest.

15. Section 73.202(b), the Table of FM Allotments under Missouri, is amended by removing Channel 241C and adding Channel 241C0 at Clinton; and by removing Channel 240A and adding Channel 240C3 at Mansfield.

16. Section 73.202(b), the Table of FM Allotments under Montana, is amended by removing Channel 228C3 and adding Channel 228C2 at Eureka; by removing Channel 279C2 and adding Channel 279C1 at Fairfield; by removing Channel 289A and adding Channel 289C2 at Manhattan; by removing Channel 290A and adding Channel 290C2 at Missoula; and by removing Channel 283A and adding Channel 283C0 at Stevensville.

17. Section 73.202(b), the Table of FM Allotments under Nevada, is amended by removing Channel 233C3 and adding Channel 233C at Elko; and removing Channel 225C and adding Channel 225C2 at Reno.

18. Section 73.202(b), the Table of FM Allotments under New York, is amended by removing Channel 288A and adding Channel 285A at Brockport.

19. Section 73.202(b), the Table of FM Allotments under North Carolina, is amended by removing Channel 223C and adding Channel 223C0 at Henderson.

20. Section 73.202(b), the Table of FM Allotments under North Dakota, is amended by removing Channel 264C3 and adding Channel 264C2 at Harwood.

21. Section 73.202(b), the Table of FM Allotments under Oregon, is amended by removing Channel 263A and adding Channel 263C3 at Cottage Grove and by removing Channel 241C1 and adding Channel 241C at Ontario.

22. Section 73.202(b), the Table of FM Allotments under South Carolina, is amended by removing Channel 251C and adding Channel 251C0 at Seneca.

23. Section 73.202(b), the Table of FM Allotments under Texas, is amended by removing Channel 265C1 and adding Channel 265C0 at Amarillo.

24. Section 73.202(b), the Table of FM Allotments under Utah, is amended by removing Channel 275C3 and adding Channel 275C2 at Hurricane.

25. Section 73.202(b), the Table of FM Allotments under West Virginia, is amended by removing Channel 288A and adding Channel 288B1 at Richwood.

26. Section 73.202(b), the Table of FM Allotments under Wyoming, is amended by removing Channel 281A and adding Channel 281C2 at Guernsey; by removing Channel 297C1 and adding Channel 297C2 at Kemmerer; by removing Channel 288A and adding Channel 288C2 at Mills.

Federal Communications Commission.
John A. Karousos,
Assistant Chief, Audio Division, Media Bureau.

[FR Doc. 05-15135 Filed 8-2-05; 8:45 am]

BILLING CODE 6712-01-P